DEPARTMENT OF ENERGY

Federal Energy Regulatory Commission

[Project No. 2246-063; Project No. 2246-058]

Yuba County Water Agency; Notice of Technical Meeting

a. Project Name and Number: Yuba River Hydroelectric Project No. 2246

b. Date and Time of Meeting: October 28, 2014; 9:00 a.m. Pacific Time

c. Place: HDR offices, 2379 Gateway Oaks, Suite 200, Sacramento, CA 95833

d. FERC Contact: Alan Mitchnick, alan.mitchnick@ferc.gov or (202) 502-6074

e. Purpose of Meeting: To discuss the Foothills Water Network's January 30, 2014 request for a modification to Yuba County Water Agency's Technical Memo 1-2, Channel Morphology Below Englebright, and the National Marine Fisheries Service's January 30, 2014 request for a new study, Evaluation of Effects of the Shot Rock in the Englebright Dam Reach and Associated Impacts to Anadromous Fish and Their Habitats.

f. A stenographer will record the technical meeting, and meeting transcripts will be placed into the Commission's public record for the proceeding.

g. All local, state, and federal agencies, Indian tribes, and other interested parties are invited to participate.

Dated: October 15, 2014.
Kimberly D. Bose,
Secretary.

[FR Doc. 2014-25008 Filed 10-21-14; 8:45 am]

BILLING CODE 6717-01-P